DEPARTMENT OF COMMERCE

Foreign-Trade Zones Board

[S-214-2023]

Foreign-Trade Zone 26; Application for Subzone; Helena Industries, LLC; Cordele, Georgia

An application has been submitted to the Foreign-Trade Zones (FTZ) Board by Georgina Foreign-Trade Zone, Inc., grantee of FTZ 26, requesting subzone status for the facilities of Helena Industries, LLC, located in Cordele, Georgia. The application was submitted pursuant to the provisions of the Foreign-Trade Zones Act, as amended (19 U.S.C. 81a-81u), and the regulations of the FTZ Board (15 CFR part 400). It was formally docketed on November 8, 2023.

The proposed subzone would consist of the following sites: Site 1 (33 acres) 434 Fenn Road, Cordele, Georgia; and, Site 2 (9.2 acres) 1198 Highway 280, Cordele, Georgia. A notification of proposed production activity has been submitted and is being processed under 15 CFR 400.37 (Doc. B-54-2023). The proposed subzone would be subject to the existing activation limit of FTZ 26.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is December 26, 2023. Rebuttal comments in response to material submitted during the foregoing period may be submitted during the subsequent 15-day period to January 8, 2024.

A copy of the application will be available for public inspection in the “Online FTZ Information Section” section of the FTZ Board's website, which is accessible via www.trade.gov/ftz.

For further information, contact Christopher Kemp at Christopher.Kemp@trade.gov.

Dated: November 8, 2023.
Elizabeth Whiteman,
Executive Secretary.

[FR Doc. 2023-25050 Filed 11-13-23; 8:45 am]

BILLING CODE 3510-DS-P